NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-three meetings, by videoconference, of the Humanities Panel, a federal advisory committee, during April 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. app.), notice is hereby given of the following meetings:

1. Date: April 1, 2022

This video meeting will discuss applications on the topics of Archaeology, Anthropology, and Studies of Science, for the Collaborative Research program, submitted to the Division of Research Programs.

2. Date: April 1, 2022

This video meeting will discuss applications on the topics of Collections and Access, for the Digital Humanities Advancement Grants program, submitted to the Office of Digital Humanities.

3. Date: April 5, 2022

This video meeting will discuss applications on the topics of Scholarly Communications and Digital Culture, for the Digital Humanities Advancement Grants program, submitted to the Office of Digital Humanities.

4. Date: April 5, 2022

This video meeting will discuss applications on the topics of Philosophy and Religion, for the Scholarly Editions and Translations program, submitted to the Division of Research Programs.

5. Date: April 5, 2022

This video meeting will discuss applications on the topics of Western and Native American History, for the Public Humanities Projects: Exhibitions (Implementation) program, submitted to the Division of Public Programs.

6. Date: April 6, 2022

This video meeting will discuss applications on the topic of Art History, for the Public Humanities Projects: Exhibitions (Implementation) program, submitted to the Division of Public Programs.

7. Date: April 7, 2022

This video meeting will discuss applications for the Public Humanities Projects: Humanities Discussions Grants program, submitted to the Division of Public Programs.

8. Date: April 7, 2022

This video meeting will discuss applications on the topics of Computational Analysis and Spatial Humanities, for the Digital Humanities Advancement Grants program, submitted to Office of Digital Humanities.

9. Date: April 8, 2022

This video meeting will discuss applications on the topic of Cultural History Documentaries, for the Media Projects Production program, submitted to the Division of Public Programs.

10. Date: April 11, 2022

This video meeting will discuss applications on the topic of Public Humanities, for the Digital Humanities Advancement Grants program, submitted to the Office of Digital Humanities.

11. Date: April 12, 2022

This video meeting will discuss applications for the Landmarks of American History and Culture program, submitted to the Division of Education Programs.

12. Date: April 13, 2022

This video meeting will discuss applications for the Institutes for K-12 Educators program, submitted to the Division of Education Programs.

13. Date: April 14, 2022

This video meeting will discuss applications for the Landmarks of American History and Culture program, submitted to the Division of Education Programs.

14. Date: April 19, 2022

This video meeting will discuss applications for the Institutes for K-12 Educators program, submitted to the Division of Education Programs.

15. Date: April 20, 2022

This video meeting will discuss applications for the Institutes for K-12 Educators program, submitted to the Division of Education Programs.

16. Date: April 21, 2022

This video meeting will discuss applications for the Landmarks of American History and Culture program, submitted to the Division of Education Programs.

17. Date: April 21, 2022

This video meeting will discuss applications for the Institutes for Advanced Topics in Digital Humanities program, submitted to the Office of Digital Humanities.

18. Date: April 22, 2022

This video meeting will discuss applications for the Institutes for K-12 Educators program, submitted to the Division of Education Programs.

19. Date: April 25, 2022

This video meeting will discuss applications for the Institutes for Higher Education Faculty program, submitted to the Division of Education Programs.

20. Date: April 26, 2022

This video meeting will discuss applications for the Institutes for K-12 Educators program, submitted to the Division of Education Programs.

21. Date: April 27, 2022

This video meeting will discuss applications for the Institutes for K-12 Educators program, submitted to the Division of Education Programs.

22. Date: April 28, 2022

This video meeting will discuss applications for the Institutes for Higher Education Faculty program, submitted to the Division of Education Programs.

23. Date: April 29, 2022

This video meeting will discuss applications for the Institutes for Higher Education Faculty program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 14, 2022.
Samuel Roth,
Attorney-Advisor, National Endowment for the Humanities.

[FR Doc. 2022-05652 Filed 3-16-22; 8:45 am]

BILLING CODE 7536-01-P